DEPARTMENT OF DEFENSE

Department of the Army, Corps of Engineers

Intent To Prepare an Environmental Impact Statement for the Proposed Flood Risk Management Study for the Blanchard River Watershed Including Communities of Findlay and Ottawa, OH

AGENCY: Department of the Army, U.S. Army Corps of Engineers, DoD.

ACTION: Notice of Intent.

SUMMARY: Pursuant to Section 102(2)(c) of the National Environmental Policy Act (NEPA) of 1969 as implemented by the Council on Environmental Quality regulations (40 CFR parts 1500-1508) and Public Law 102-484 Section 2834, as amended by Public Law 104-106 Section 2867, the Department of the Army hereby gives notice of intent to prepare an Environmental Impact Statement (EIS) for the subject Flood Risk Management Study. The Buffalo District of the U.S. Army Corps of Engineers (USACE) will be the lead agency in preparing the EIS.

The EIS will consider Federal actions associated with the proposed Flood Risk Management Study in the Blanchard River Watershed including the communities of the City of Findlay in Hancock County and the Village of Ottawa in Putnam County, OH. More specifically, this document will discuss measures to improve flood risk management, navigation, water quality, recreation, and fish and wildlife habitat in a comprehensive manner in the Blanchard River Watershed, Ohio. The overall goal of the study is to reduce flood risk by saving lives and minimizing property damage in the event of floods in Findlay and Ottawa, Ohio. The plan will consider a range of structural and nonstructural measures that may be used for flood risk management in the Blanchard River Watershed.

ADDRESSES: U.S. Army Corps of Engineers, Buffalo District, CELRB-PM-PB, 1776 Niagara Street, Buffalo, NY 14207-3199.

FOR FURTHER INFORMATION CONTACT: The Project Team, telephone (419) 726-9121, email Blanchard@usace.army.mil.

SUPPLEMENTARY INFORMATION: The Blanchard River Watershed is located in northwestern Ohio, with its headwaters originating in central Hardin County. The 771-square mile Blanchard River Watershed drains into the Auglaize River in Putnam County, Ohio. The Blanchard River Watershed is characterized by alluvial flatlands prone to flooding, with significant flood damages occurring frequently at Findlay and Ottawa over the last ten years. The Blanchard River has reached or exceeded major flood stage 23 times since 1913. Nine of these flood events have occurred since 1990. For events between 1990 and 2011, five are among the top ten stages ever recorded; three have peaked at more than three feet over major flood stage; and one (an event occurring in August 2007) reached a peak that was only 0.04 feet less than the maximum peak stage ever recorded in 1913. Damages during the August 2007 event alone were estimated by the Northwest Ohio Flood Mitigation Partnership to be roughly $60 million in the Findlay area and $20 million in the Ottawa area. The Corps of Engineers plans to address flooding issues in Findlay and Ottawa by evaluating a series of flood risk management measures within the vicinity of these two affected areas.

Proposed Action: In accordance with 40 CFR parts 1500-1508 and Engineer Regulation 200-2-2, an EIS is being prepared for the Federal Flood Risk Management Study within the Blanchard River watershed including the communities of Findlay and Ottawa to ensure full and fair consideration of significant environmental impacts. This EIS will inform decision-makers and the public of reasonable alternatives to reduce the risk of loss of life and property damage from flooding in these areas and that would also avoid or minimize adverse impacts and/or enhance the quality of the human environment. The proposed EIS will focus on the implementation of flood risk management measures associated with the Blanchard River in and within the vicinity of Findlay and Ottawa. The EIS will be consistent with sound engineering practices and will be drafted concurrently with actions to achieve compliance with other applicable Federal environmental compliance requirements, including those established by Section 404 of the Clean Water Act. In addition, the EIS will be consistent with State and local plans.

Reasonable Alternatives: It is Corps of Engineers planning policy to consider practicable and relevant alternative management measures, including a no action alternative. While the preferred alternative has not yet been established, the alternative plans considered in the EIS will consist of an array of structural and nonstructural measures for both Findlay and Ottawa. Structural measures may include, but are not limited to, channel realignment/diversion, levees and floodwall creation, culvert modification, and the creation of flood storage areas, including wetlands, bermed containment areas, and water detention areas/reservoirs. Nonstructural measures may include, but not be limited to, elevating existing buildings, relocation or acquisition of flood-prone structures, wet and dry floodproofing, as well as the development and implementation of a flood warning system or flood emergency preparedness plan.

Scoping Process: The Corps of Engineers invites affected Federal, State and local agencies, interested Indian Nations, and other concerned organizations and individuals to participate in development of the EIS. An initial Scoping Document was distributed in June 2008 and the Corps of Engineers will be conducting a second round of scoping, and four public scoping meetings in December, 2012, which include: (1) 6:30 p.m. on December 10, 2012 at the Ottawa-Glandorf High School Auditorium, 630 Glendale Ave. Ottawa, OH; (2) 9:00 a.m. on December 11, 2012 at the Putnam County Educational Service Center, 124 Putnam Parkway, Ottawa, OH; (3) 7:00 a.m. on December 11, 2012 at the Findlay High School Auditorium, 1200 Broad Avenue, Findlay, OH; and, (4) 9:00 a.m. December 12, 2012 at the Hancock County Agricultural Service Center, 7868 County Road 140, Findlay, OH. All written comments received by the Corps of Engineers during the scoping period and throughout the EIS process will be considered in the preparation of the EIS.

The Draft EIS is tentatively scheduled to be available for public review in December 2013. The Final EIS is tentatively scheduled to be available for public review in September 2014.

Dated: November 20, 2012.
Owen J. Beaudoin,
Lieutenant Colonel, U.S. Army Corps of Engineers, District Commander.

[FR Doc. 2012-28887 Filed 11-29-12; 8:45 am]

BILLING CODE 3720-58-P